DEPARTMENT OF TRANSPORTATION

Federal Railroad Administration

[Docket Number FRA 2000-7912]

Petition for Waiver of Compliance; Union Pacific Railroad; Waiver Petition

In accordance with Title 49 Code of Federal Regulations (CFR) Sections 211.9 and 211.41, notice is hereby given that the Federal Railroad Administration (FRA) has received from Union Pacific Railroad Company (UP), a Class I railroad, a request for waiver of compliance with certain provisions of the Federal Roadway Worker Protection Standards, 49 CFR 214. The specific sections of the Rule for which waiver is sought are 49 CFR 214.329, Train approach warning provided by watchmen/lookouts, and 49 CFR 214.329, On-track safety procedures for lone workers.

UP requests relief that will permit the use of a system described by UP as the automatic train approach warning system (TAWS). UP proposes that roadway work groups be permitted to substitute TAWS for watchmen/lookouts as the method of train approach warning when fouling a track within equipped interlockings and controlled points. UP also proposes that lone workers be permitted to use TAWS as a method of train approach warning within the limits of those interlockings and controlled points without a requirement to establish working limits.

FRA published, on December 16, 1996, a Final Rule amending 49 CFR 214 with the addition to it of the Roadway Worker Protection Standards, which became effective on January 15, 1997. The regulation mandates clearly defined methods of protection against moving trains and railroad equipment for railroad employees who perform certain maintenance and inspection duties on and near railroad tracks. On December 16, 1996, UP filed a petition for waiver of certain provisions of that Rule to permit the use of TAWS in place of watchmen/lookouts. FRA subsequently denied that petition, docketed as WPS-97-1, without prejudice, due to concerns over several aspects of TAWS as it was then configured. UP indicates that this petition includes several enhancements which are intended by UP to address those concerns.

According to UP, the TAWS has been in place at controlled points on much of UP's heaviest tonnage routes since 1978. TAWS functions by illuminating a blue rotating light and sounding an audible alarm to alert roadway workers at least one minute prior to the entry of a train to an interlocking or controlled point. It has become part of the UP standard package at all new controlled points installed on UP. UP states that there have been no recorded instances of failure of the TAWS to perform its intended function.

UP avers that the TAWS, properly utilized, is more effective than a watchman/lookout, providing a longer warning time and not being susceptible to distraction or fatigue. Information provided by UP indicates that the TAWS is an integral part of the signal and train control system, incorporating the same level of reliability and principles of fail-safe design.

UP has included with the petition a set of detailed rules and instruction for the operation and use of both types of devices for the purpose of providing warning of approaching trains to roadway workers.

Interested parties are invited to participate in these proceedings by submitting written views, data, or comments.

All communications concerning these proceedings should identify the appropriate docket number (e.g., Waiver Petition Docket Number FRA-2000-7912 and must be submitted to the DOT Docket Management Facility, Room PL-401 (Plaza level) 400 Seventh Street, S.W., Washington, D.C. 20590. Communications received within 30 days of the date of this notice will be considered by FRA before final action is taken. Comments received after that date will be considered as far as practicable. All written communications concerning this proceeding are available for examination during regular business hours (9:00 a.m.-5:00 p.m.) at the above facility. All documents in the public docket are also available for inspection and copying on the Internet at the docket facility's Web site at http://dms.dot.gov.

Issued in Washington, D.C. on September 18, 2000.
Grady C. Cothen, Jr.,
Deputy Associate Administrator for Safety Standards and Program Development.

[FR Doc. 00-24289 Filed 9-20-00; 8:45 am]

BILLING CODE 4910-06-P